DEPARTMENT OF TRANSPORTATION

Federal Aviation Administration

14 CFR Part 39

[Docket No. 2001-NM-350-AD; Amendment 39-12720; AD 2002-08-12]

RIN 2120-AA64

Airworthiness Directives; Airbus Model A330 and A340 Series Airplanes

AGENCY: Federal Aviation Administration, DOT.

ACTION: Final rule; request for comments.

SUMMARY: This amendment adopts a new airworthiness directive (AD) that is applicable to certain Airbus Model A330 and A340 series airplanes. This action requires an inspection of the parking brake operated valve (PBOV) of the main landing gear to identify the part and serial numbers, and follow-on actions if necessary. This action provides for optional terminating action for the requirements of this AD. This action is necessary to prevent leakage of the PBOV and consequent failure of the “blue” hydraulic system, which could affect elements of the hydraulics for flaps, stabilizer, certain spoilers, elevator, rudder, and aileron. This action is intended to address the identified unsafe condition.

DATES: Effective May 8, 2002.

The incorporation by reference of certain publications listed in the regulations is approved by the Director of the Federal Register as of May 8, 2002.

Comments for inclusion in the Rules Docket must be received on or before May 23, 2002.

ADDRESSES: Submit comments in triplicate to the Federal Aviation Administration (FAA), Transport Airplane Directorate, ANM-114, Attention: Rules Docket No. 2001-NM-350-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2001-NM-350-AD” in the subject line and need not be submitted in triplicate. Comments sent via fax or the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056, telephone (425) 227-2125; fax (425) 227-1149.

SUPPLEMENTARY INFORMATION: A proposal to amend part 39 of the Federal Aviation Regulations (14 CFR part 39) to include an airworthiness directive (AD) that is applicable to certain Airbus Model A330 and A340 series airplanes was published in the Federal Register on January 2, 2002 (67 FR 31). That action proposed to require a one-time inspection of the parking brake operated valve (PBOV) of the main landing gear to identify the part and serial numbers, and follow-on actions if necessary.

As stated in the proposed AD, the Direction Générale de l'Aviation Civile (DGAC), which is the airworthiness authority for France, advised the FAA that PBOV leakage has been identified on certain Airbus Model A320 series airplanes. The same PBOV is installed on Airbus Model A330 and A340 series airplanes. Hydraulic fluid leakage was found at the hydraulic connections and the vent hole of the valve. PBOV leakage, if not corrected, could result in failure of the “blue” hydraulic system and consequent failure of alternate parking brake and emergency braking systems. In addition, loss of the “blue” hydraulic system could affect elements of the hydraulics for flaps, stabilizer, certain spoilers, elevator, rudder, and aileron.

Explanation of Relevant Service Information

Airbus has issued Service Bulletins A330-32A3139 and A340-32A4176, both Revision 01, dated November 23, 2001. The service bulletins describe procedures for a one-time detailed visual inspection of the PBOV of the main landing gear to identify the part and serial numbers, and follow-on actions, if necessary. The service bulletins also describe procedures for modification or replacement of affected PBOVs, to be done if certain conditions are found during the inspection. Accomplishment of the actions described in the revised service bulletins is intended to adequately address the identified unsafe condition. The DGAC has mandated all of the actions (including the PBOV modification/replacement) described in these service bulletins, and issued French airworthiness directives 2001-516(B) R1 and 2001-517(B) R1, both dated February 6, 2002, to ensure the continued airworthiness of these airplanes in France.

FAA's Determination of Urgency of Unsafe Condition

Since the proposed AD was issued, we have issued or will issue two similar ADs as immediately adopted rules—one applicable to Airbus Model A319, A320, and A321 series airplanes, and the other applicable to Airbus Model A300, A300-600, and A310 series airplanes. Because of the urgency of the unsafe condition identified in those ADs, and the similarity to the unsafe condition identified by this AD for Model A330 and A340 series airplanes, we have determined that immediate adoption of this AD is also necessary.

Explanation of Change to this AD

The DGAC has mandated that affected PBOVs be modified or replaced—regardless of the inspection findings. The service bulletins recommend this action only if certain conditions are found, and allow the repetitive inspections to continue under certain circumstances. We find that failure to modify or replace the PBOVs in a timely manner may not provide the degree of safety necessary for the affected airplanes. However, the planned compliance time to accomplish the modification/replacement is long enough to provide notice and opportunity for prior public comment. Paragraph (b) of this AD provides for that action as optional. We may issue further rulemaking later to require the modification/replacement action.

Comments on the Proposed AD

Interested persons were given an opportunity to comment on the proposed AD. Due consideration has been given to the comments received.

Request to Extend Compliance Times

One commenter, an operator, requests that the proposed AD be revised to extend the compliance time from 7 days to 30 days, and the repetitive inspection interval from 10 days to 30 days. The operator's current operating schedule for the fleet permits little ground time outside of scheduled A- or C-checks, and requests the revised schedule to minimize the disruption to the flight operations. The commenter states that the proposed compliance times would make it difficult to accomplish the actions without resulting in flight delays and possible cancellations.

We do not concur. The commenter provides no specific basis for the anticipated difficulty in completing the actions within the proposed compliance times. For example, the commenter does not describe any potential problems with parts availability or the status of airplanes already inspected. The ability to accomplish the initial requirements during an overnight maintenance visit and the multiple options for follow-on actions should accommodate operators' scheduling needs. The compliance time remains the same as proposed.

Request to Cite Most Recent Service Bulletin

One commenter (an operator of Model A330 series airplanes) requests that the proposed AD be revised to cite Airbus Service Bulletin A330-32A3139, Revision 01, as the guidance for the AD requirements. (The original service bulletin was cited in the proposed AD.)

We concur with the commenter's request. In addition, as stated previously, Airbus has issued Revision 01 of Airbus Service Bulletin A340-32A4176 (for Model A340 series airplanes). This AD cites Revision 01 of these service bulletins as the appropriate source of service information; however, operators will receive credit for prior accomplishment of the actions according to the original service bulletin, as provided by Note 2 of this AD.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the DGAC's findings, reviewed all available information, and determined that AD action is necessary for products of this type design that are certificated for operation in the United States.

Explanation of Requirements of Rule

Since an unsafe condition has been identified that is likely to exist or develop on other airplanes of the same type design registered in the United States, this AD is being issued to prevent leakage of the PBOV and consequent failure of the “blue” hydraulic system, which could affect elements of the hydraulics for flaps, stabilizer, certain spoilers, elevator, rudder, and aileron. This AD requires an inspection of the hydraulically operated valve of the parking brake of the main landing gear to identify the part and serial numbers, and follow-on actions if necessary. This AD provides for the optional modification of affected PBOVs, or their replacement with new parts, which would terminate the requirements of this AD. The actions are required to be accomplished in accordance with the revised service bulletins described previously.

Interim Action

This is considered to be interim action. We are considering requiring the modification or replacement of affected PBOVs, which would terminate the requirements of this AD. However, the planned compliance time for the modification/replacement is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter s ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing us to acknowledge receipt of their comments submitted in response to this rule must submit a self-addressed, stamped postcard on which the following statement is made: “Comments to Docket 2001-NM-350-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-08-12 Airbus Industrie: Amendment 39-12720. Docket 2001-NM-350-AD.

Applicability: Model A330 and A340 series airplanes as listed in Airbus Service Bulletin A330-32A3139 or A340-32A4176, both Revision 01, dated November 23, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent leakage of the parking brake operated valve (PBOV) of the main landing gear and consequent failure of the “blue” hydraulic system, which could affect elements of the hydraulics for flaps, stabilizer, certain spoilers, elevator, rudder, and aileron, accomplish the following:

Inspections/Follow-On Actions

(a) Within 7 days after the effective date of this AD: Do a one-time detailed inspection to determine the part number (P/N) and serial number (S/N) of the PBOV of the main landing gear, according to Airbus Service Bulletin A330-32A3139 (for Model A330 series airplanes) or A340-32A4176 (for Model A340 series airplanes), both Revision 01, dated November 23, 2001; as applicable.

(1) If no P/N or S/N is identified as affected equipment according to the applicable service bulletin, no further action is required by this AD.

(2) If any P/N or S/N is identified as affected equipment according to the applicable service bulletin: Before further flight, perform the follow-on actions (which may include a visual inspection for hydraulic fluid leakage at the PBOV, repair or replacement of the PBOV with a new or serviceable part if leakage is found, and an operational test) according to the applicable service bulletin. If the affected PBOV is not replaced, or if the PBOV is replaced with a part having the same P/N or S/N, repeat the inspection thereafter at the time specified by and according to the service bulletin, as applicable, until the part is replaced.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Optional PBOV Modification/Replacement

(b) Modification of affected PBOVs, or their replacement with new PBOVs, according to Airbus Service Bulletin A330-32A3139 (for Model A330 series airplanes) or A340-32A4176 (for Model A340 series airplanes), both Revision 01, dated November 23, 2001, as applicable, terminates the requirements of this AD.

Note 3: Accomplishment of the actions before the effective date of this AD according to Airbus Service Bulletin A330-32A3139 or A340-32A4176, dated September 14, 2001, as applicable, is acceptable for compliance with the requirements of paragraphs (a) and (b) of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions must be done in accordance with Airbus Service Bulletin A330-32A3139, Revision 01, including Appendix 01, dated November 23, 2001; or Airbus Service Bulletin A340-32A4176, Revision 01, including Appendix 01, dated November 23, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directives 2001-516(B) R1 and 2001-517(B) R1, both dated February 6, 2002.

Effective Date

(f) This amendment becomes effective on May 8, 2002.

Issued in Renton, Washington, on April 12, 2002.
Ali Bahrami,
Acting Manager, Transport Airplane Directorate, Aircraft Certification Service.

[FR Doc. 02-9567 Filed 4-22-02; 8:45 am]

BILLING CODE 4910-13-U